DEPARTMENT OF VETERANS AFFAIRS

Advisory Committee: National Academic Affiliations Council Notice of Meeting

The Department of Veterans Affairs (VA) gives notice under Public Law 92-463 (Federal Advisory Committee Act) that a meeting of the National Academic Affiliations Council will be held on October 16-17, 2014, in the Office of Academic Affiliations Conference Room, 1800 G Street NW., Suite 870, Washington, DC. The sessions will begin at 8 a.m. each day and adjourn at 5:00 p.m. on October 16th and at 1:00 p.m. on October 17th. This meeting is open to the public.

The purpose of the Council is to advise the Secretary on matters affecting partnerships between VA and its academic affiliates.

On October 16th, the Council will discuss the new VA Veterans Access, Choice, and Accountability (VACAA) Act of 2014 legislation and the preliminary Graduate Medical Education (GME) resident expansion implementation plans. On October 17th, the Council will hear comments from the Secretary or Under Secretary of Health of the Department of Veteran Affairs and continue the discussion concerning opportunities and challenges impacting academic affiliation relationships. The Council will receive public comments from 12:30 p.m. to 1:00 p.m. on October 17, 2014.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, by email to, William.Marks@va.gov, or by mail to William J. Marks M.D., MS-HCM, Chief of Health Professions Education, Office of Academic Affiliations (10A2D), 810 Vermont Avenue NW., Washington, DC 20420. Any member of the public wishing to attend or seeking additional information should contact Dr. Marks via email or by phone at (415) 750-2100.

Dated: September 10, 2014.
Jelessa M. Burney,
Federal Advisory Committee Management Officer.

[FR Doc. 2014-21920 Filed 9-12-14; 8:45 am]

BILLING CODE P